DEPARTMENT OF COMMERCE

National Oceanic and Atmospheric Administration

DEPARTMENT OF THE INTERIOR

U.S. Fish and Wildlife Service

[I.D. 091799D]

Notice of Additional Public Involvement Opportunities/Re-opening of Comment Period for the Preparation of an Environmental Impact Statement to Allow Incidental Take of Multiple Species by Nonindustrial Private Landowners in Lewis County, WA

AGENCIES: Fish and Wildlife Servce, Interior; National Marine Fisheries Service (NMFS), National Oceanic and Atmospheric Administration (NOAA), Commerce.

ACTION: Notice to re-open public comment period.

SUMMARY: This notice advises other agencies and the public that the Fish and Wildlife Service (USFWS) and National Marine Fisheries Service (NMFS) (collectively, the Services) are re-opening the initial 30-day public comment period and will hold three additional scoping workshops to assist in gathering information for the preparation of an Environmental Impact Statement (EIS). This EIS pertains to the proposed issuance of Incidental Take Permits by NMFS and USFWS, and Enhancement of Survival Permits by USFWS (collectively, Permits) to nonindustrial forest landowners for forest-management activities conducted in Lewis County, WA. The proposed Permits would authorize take of federally listed species in accordance with the Endangered Species Act of 1973, as amended (Act), and certain other unlisted species should they be listed in the future. As required by the Act, a Conservation Plan is being prepared in voluntary cooperation with interested Lewis County parties. Since the Permits are likely to involve multiple landowners, the Conservation Plan will be developed as a programmatic Plan, titled the Family Forest Conservation Project (Plan). The USFWS will also use additional landowner agreements available under Section 10 of the Act, such as Enhancement of Survival Permits for Safe Harbor Agreements and Candidate Conservation Agreements with Assurances, as appropriate. This notice supplements the notice of intent published in the September 23, 1999, Federal Register.

DATES: Written comments regarding the scope of issues and potential alternatives to be included in the EIS should be received on or before September 1, 2000. Public meetings will be held at the following locations and times: Lacey, WA on July 26, 2000, at the USFWS/NMFS office on the St. Martins College Campus at 510 Desmond Drive, SE (Sawyer Hall) from 3:00-5:00 pm and 6:00-8:00 pm; and in Chehalis, WA on August 15, 2000, at the Lewis and Clark State Park from 6:00-8:00 pm. The Lewis and Clark State Park is located 12 miles south of Chehalis on Jackson Highway (4583 Jackson Highway).

ADDRESSES: Written comments, questions, or requests for additional information, including maps for the workshop locations, should be addressed to Mark Ostwald, USFWS, 510 Desmond Drive, SE, Suite 102, Lacey, WA 98503-1273, telephone (360) 753-9564, facsimile (360) 753-9518; or Mike Parton, NMFS, 510 Desmond Drive, SE, Suite 103, Lacey, WA 98503-1273, telephone (360) 753-4650, facsimile (360) 453-9517. Comments received will be available for public inspection by appointment during normal business hours (8:00 am to 5:00 pm, Monday through Friday).

FOR FURTHER INFORMATION CONTACT: See ADDRESSES.

SUPPLEMENTARY INFORMATION: Section 9 of the Act prohibits the “take” of species listed as threatened or endangered. The term take is defined under the Act to mean harm, harass, pursue, hunt, shoot, wound, kill, trap, capture or collect, or to attempt to engage in any such conduct. Harm is defined to include significant habitat modification or degradation where it actually kills or injures wildlife by significantly impairing essential behavioral patterns, including breeding, spawning, rearing, feeding, and sheltering.

The Services may issue Permits, under limited circumstances, to take listed species incidental to, and not the purpose of, otherwise lawful activities. The USFWS regulations governing Permits for endangered species are promulgated in 50 CFR 17.22 and regulations governing Permits for threatened species are promulgated in 50 CFR 17.32. The NMFS regulations governing Permits for threatened and endangered species are promulgated in 50 CFR 222.22.

Interested parties have held meetings and field visits with the Services. Scoping workshops on this Plan and EIS were held by the Services on September 22 and September 23, 1999, in Olympia and Chehalis, WA, respectively. As a further opportunity for interested persons to comment on this planning effort, the comment period is being re-opened and additional scoping workshops are scheduled as announced above.

Pursuant to the Act, a collaborative planning effort has been initiated in cooperation with the Services involving landowners, landowner associations, state and federal agencies, universities, and environmental groups. As a result, an EIS will be prepared to address this programmatic Plan and the effects of issuing Permits to landowners engaged in forest-management activities. We expect the proposed Plan to include several options available for landowners toward achieving a specified desired future condition in Lewis County and to be utilized to address State Forest Practices, Clean Water Act, and Endangered Species Act concerns. We expect that the proposed Plan and EIS will evaluate the potential take of several listed species that occur in Lewis County. These may include, but are not limited to, the northern spotted owl (Strix occidentalis caurina), bald eagle (Haliaeetus leucocephalus), steelhead (Oncorhynchus mykiss), and chinook salmon (Oncorhynchus tshawytscha). The proposed Plan and EIS will address forestry operations within the constraints of: (1) A specified portion of Lewis County; (2) a restricted number of Permits; (3) a specified time frame; and potentially (4) a limited amount of total acreage included under such Permits. Increases to the number of Permits or covered acreage would likely require supplemental analyses. The proposed Plan and EIS will also address the impacts of incidental take of several species, listed and unlisted, which could occur as a result of timber harvest and related activities on subject lands. Some of these species may not occur on the lands currently, but might occur on the subject lands in the future and may at some point be subject to disturbance or other take. This effort is proposed to result in one Plan and EIS addressing the potential issuance of multiple Permits. The Permits issued subsequent to this Plan would not be subject to additional public comment at the time of issuance.

The Services are exploring two options for the ultimate structure of the permitting regime for this project. These are: (1) One single entity (e.g., state or local agency, or organization, etc.) receives the Incidental Take Permit and upon completion and approval by this entity of detailed, site-specific plans that implement the terms of the programmatic Plan, participating landowners will receive permit coverage under section 10(a)(1)(B) of the Act through individual Certificates of Inclusion; or (2) an individual Incidental Take Permit or Enhancement of Survival Permit is issued to each landowner that provides and receives approval by the Services of a detailed, site-specific plan that implements the terms detailed in the programmatic Plan.

The USFWS is considering the use of Incidental Take Permits and Certificates of Inclusion under Section 10(a)(1)(B) of the Endangered Species Act, as well as Enhancement of Survival Permits for Safe Harbor and Candidate Conservation under Section 10(a)(1)(A). The NMFS is considering the use of Incidental Take Permits and Certificates of Inclusion under Section 10(a)(1)(B) of the Act, but is not proposing to utilize Enhancement of Survival Permits for Safe Harbor and/or Candidate Conservation for any of the species under its jurisdiction.

The Services invite comments and suggestions from all interested parties to ensure that the full range of issues related to these proposed actions are addressed and that all significant issues are identified. We request that comments be as specific as possible. In particular, we request comments regarding: the direct, indirect, and cumulative impacts that implementation of the proposal could have on endangered and threatened species and their habitats; other possible alternatives; permitting regime; portions of Lewis County to be included; total acreage covered by each individual, landowner Permit; total number of Permits to be issued; duration of Permits; potential adaptive management and/or monitoring provisions; funding issues; baseline environmental conditions in Lewis County; other plans or projects that might be relevant to this project; and minimization and mitigation efforts. In addition to considering impacts on species and their habitat, the EIS must include information on impacts resulting from the alternatives on other components of the human environment. These other components include, but are not limited to, air quality, water quality and quantity, geology and soils, cultural resources, other fish and wildlife species, social resources, and economic resources.

The environmental review of this project will be conducted in accordance with the requirements of the National Environmental Policy Act of 1969, as amended (42 U.S.C. 4321 et seq.), the Council on Environmental Quality Regulations (40 CFR 1500-1508) and other appropriate Federal laws and regulations and policies and procedures of the Services for compliance with those regulations. We predict that the draft EIS will be available for public review during the first quarter of 2001.

Dated: June 22, 2000.
Rowan W. Gould,
Regional Director, Region 1, U.S. Fish and Wildlife Service, Portland, Oregon.
Dated: June 23, 2000.
Craig Johnson,
Acting Chief, Endangered Species Division, Office of Protected Resources, National Marine Fisheries Service.

[FR Doc. 00-16509 Filed 6-28-00; 8:45 am]

BILLING CODES: 3510-22-F, 4310-55-F